DEPARTMENT OF ENERGY

Western Area Power Administration

Floodplain/Wetland Involvement at the Supply Creek Crossing for the Granby Pumping Plant-Marys Lake 69-Kilovolt Transmission Line, Grand County, Colorado

AGENCY: Western Area Power Administration, DOE.

ACTION: Notice of Involvement.

SUMMARY: Western Area Power Administration (Western), a power marketing agency of the U.S. Department of Energy (DOE), is the lead Federal agency for a proposal to reroute a 0.8 mile section of the Granby Pumping Plant-Marys Lake 69-kilovolt (kV) transmission line, located in Grand County, Colorado, approximately 10 miles north of the Town of Granby. Western plans to remove eight wood-pole H-frame structures from the existing right-of-way and relocate them farther to the west, a distance ranging from a few hundred feet to approximately 1,000 feet. All the proposed work will likely occur within a 100-year floodplain of Supply Creek. Both the existing transmission line and the proposed reroute cross a wetland associated with Supply Creek, as well as an irrigated meadow. The landowner has requested that Western relocate this section of line to facilitate his ongoing ranching operations. Access to this section of transmission line for maintenance is difficult due to hay meadow irrigation and naturally occurring wet conditions. Relocation of the line will reduce the number of transmission line structures presently located within the wetland area. In accordance with the DOE's Floodplain/Wetland Review Requirements (10 CFR 1022), Western will prepare a floodplain/wetland assessment and will perform the proposed actions in a manner so as to avoid or minimize potential harm to or within the affected floodplain/wetland.

DATES: Comments on the proposed floodplain/wetland action are due to the address below no later than December 10, 2001.

ADDRESSES: Comments should be addressed to Mr. Jim Hartman, Environmental Manager, Rocky Mountain Region, Western Area Power Administration, PO Box 3700, Loveland, CO, 80539-3003, fax (970) 461-7213, email hartman@wapa.gov.

FOR FURTHER INFORMATION CONTACT: Mr. Rodney Jones, Environmental Specialist, Rocky Mountain Customer Service Region, Western Area Power Administration, PO Box 3700, Loveland, CO 80539-3003, telephone (970) 461-7371, email rjones@wapa.gov.

SUPPLEMENTARY INFORMATION: The proposal to relocate a 0.8 mile section of the Granby Pumping Plant-Marys Lake 69-kV transmission line will involve construction activities within a floodplain and a wetland, including removal of eight existing wood pole H-frame transmission line structures and the installation of eight similar structures within a new relocated right-of-way. The structures located at either side of the relocation may be modified, or reconstructed, at the same location. Some construction activities would take place during the winter months when the ground is frozen to facilitate access in the extremely wet areas. The floodplain/wetland assessment will examine the proposed construction activities. The Supply Creek crossing is located in Grand County, Colorado in T.3 N., R. 76 W., sections 11 and 14. Maps and further information are available from the Western contact above.

Dated: November 8, 2001.
Michael S. Hacskaylo,
Administrator.

[FR Doc. 01-29246 Filed 11-21-01; 8:45 am]

BILLING CODE 6450-01-P